ENVIRONMENTAL PROTECTION AGENCY

[EPA-HQ-OECA-2013-0312; FRL-9985-92-OEI]

Information Collection Request Submitted to OMB for Review and Approval; Comment Request; Emission Guidelines for Commercial and Industrial Solid Waste Incineration (CISWI) Units (Renewal)

AGENCY: Environmental Protection Agency (EPA).

ACTION: Notice.

SUMMARY: The Environmental Protection Agency (EPA) has submitted an information collection request (ICR), Emission Guidelines for Commercial and Industrial Solid Waste Incineration (CISWI) Units (EPA ICR No. 2385.07, OMB Control No. 2060-0664), to the Office of Management and Budget (OMB) for review and approval in accordance with the Paperwork Reduction Act. This is a proposed extension of the ICR, which is currently approved through December 31, 2018. Public comments were previously requested via the Federal Register on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 22, 2019.

ADDRESSES: Submit your comments, referencing Docket ID Number EPA-HQ-OECA-2013-0312, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The Emission Guidelines for Commercial and Industrial Solid Waste Incineration (CISWI) Units apply to any air quality program in either a state or a United States protectorate with one or more existing CISWI units. The guidelines can be thought of as model regulations that States use in developing State plans to implement the emission guidelines. If a state does not develop, adopt, and submit an approvable state plan, the Environmental Protection Agency (EPA) must develop a Federal plan to implement the emission guidelines. These regulations apply to existing CISWI units (units that commenced construction on or before the date of proposal).

In general, all Emissions Guidelines standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart DDDD.

Form numbers: None.

Respondents/affected entities: Owners and operators of commercial and industrial solid waste incineration units.

Respondent's obligation to respond: Mandatory (40 CFR part 60, subpart DDDD).

Estimated number of respondents: 78 (total).

Frequency of response: Initially, occasionally, semiannually, and annually.

Total estimated burden: 10,400 hours (per year). Burden is defined at 5 CFR 1320.3(b).

Total estimated cost: $11,200,000 (per year), which includes $10,000,000 in annualized capital/startup and/or operation & maintenance costs.

Changes in the estimates: There is an adjustment increase in the estimated burden cost and number of responses. The adjustment increase in burden from the most-recently approved ICR is due to an increase in the number of sources anticipated to remain subject to the provisions of Subpart DDDD since the last ICR renewal period, based on an inventory maintained by OAQPS. Specifically, the prior ICR assumed that a number of units in the incinerator subcategory would shut down based on amendments to the rule. However, a recent inventory of sources indicates that these incinerators remain in operation, and also identifies additional facilities with units in the small remote incinerators subcategory not previously included in the inventory. The adjustment increase in burden is due to more accurate estimates of existing sources. In addition, the burden hours were increased as a result of accounting for burden for each respondent to refamiliarize themselves with regulatory requirements each year.

Courtney Kerwin,
Director, Regulatory Support Division.

[FR Doc. 2018-27580 Filed 12-20-18; 8:45 am]

BILLING CODE 6560-50-P